DEPARTMENT OF ENERGY

Federal Energy Regulatory Commission

[Docket No. RP01-190-003]

Kern River Gas Transmission Company; Notice of Tariff Filing

June 14, 2002.

Take notice that on June 5, 2002, Kern River Gas Transmission Company (Kern River) tendered for filing as part of its FERC Gas Tariff, Second Revised Volume No. 1, Second Revised Sheet No. 746, with an effective date of May 1, 2002.

Kern River states that the purpose of this filing is to correct a pagination error by submitting Second Revised Sheet No. 746 as a replacement for the First Revised Sheet No. 746 that was filed in this proceeding.

Kern River states that it has served a copy of this filing upon each person designated on the official service list compiled by the Secretary in this proceeding.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Magalie R. Salas,
Secretary.

[FR Doc. 02-15521 Filed 6-19-02; 8:45 am]

BILLING CODE 6717-01-P